ENVIRONMENTAL PROTECTION AGENCY

[ER-FRL-6677-2]

Environmental Impacts Statements; Notice of Availability

Responsible Agency: Office of Federal Activities, General Information (202) 564-7167 or http://www.epa.gov/compliance/nepa/.

Weekly receipt of Environmental Impact Statements Filed 07/03/2006 Through 07/07/2006.

Pursuant to 40 CFR 1506.9.

THIS NOTICE SUPERSEDES “SPECIAL NOTICE DATED: 07/07/2006” EIS'S FILED JUNE 19 THRU JUNE 23, 2006 SCHEDULED TO APPEAR IN THE Federal Register ON JUN 30, 2006, BUT WERE PUBLISHED ON MONDAY JULY 3, 2006. CALCULATED FROM JULY 3, 2006 Federal Register THE DRAFT EIS'S COMMENT PERIODS WILL END ON AUGUST 17, 2006 AND FINAL EIS'S WAIT PERIODS WILL END ON AUGUST 2, 2006.

EIS No. 20060281, Final EIS, NPS, CA, Furnace Creek Water Collection System, Reconstruction, Death Valley National Park, Implementation, Inyo County, CA, Wait Period Ends: 08/14/2006, Contact: Linda Greene 760-786-3253.

EIS No. 20060282, Final EIS, BLM, CA, Southern Diablo Mountain Range and Central Coast of California Resource Management Plan, Several Counties, CA, Wait Period Ends: 08/14/2006, Contact: Sky Murphy 831-630-5039.

EIS No. 20060283, Draft EIS, FHW, UT, Riverdale Road Project (UT-26), Improvement Mobility and Safety between 1900 West in Roy, UT and U.S. Highway 89 (Washington Boulevard) in Odgen, UT, Cities of Roy, Riverdale, South Ogden and Ogden, Weber County, UT, Comment Period Ends: 08/28/2006, Contact: Greg Punske 801-963-0182.

EIS No. 20060284, Draft EIS, FHW, KY, I-66 Somerset to London Project, Construction from the Vicinity of the Northern Bypass (I-66) in Somerset, KY to I-75 between London and Corbin Cities, Pulaski, U.S. Army COE Section 404 Permit, Rockcastle and Laurel Counties, KY, Comment Period Ends: 08/28/2006, Contact: Jose Sepulveda 502-223-6740.

EIS No. 20060285, Draft Supplement, FHW, ME, Aroostook County Transport Study, New and Updated Information, To Identify Transportation Corridors that will Improve Mobility and Efficiency within Northeastern Aroostook County and other portions of the U.S. and Canada, U.S. Army COE Section 404 Permit, Endangered Species Act, NPDES and Section 10 River and Harbors Act, Aroostook, ME, Comment Period Ends: 08/31/2006, Contact: Mark Hasselman 207-622-8350.

EIS No. 20060286, Draft EIS, BLM, ID, Eastside Township Fuels and Vegetation Project, Address the Forest Health, Fuels, Safety, and Watershed Issues, Elk City, Idaho County, ID, Comment Period Ends: , 09/11/2006, Contact: Robbin B. Boyce 208-962-3594.

EIS No. 20060287, Draft EIS, AFS, MT, Little Belt-Castle-North Half Crazy Mountains Travel Management Plan, To Change the Management of Motorized and Non-motorized Travel on the Road, Trails, and Areas within, Belt Creek, Judith, Musselshell, and White Sulphur Springs Ranger Districts, Lewis and Clark National Forest, Cascade, Judith Basin, Meagher, Wheatland, Sweetgrass and Park Counties, MT, Comment Period Ends: 09/15/2006, Contact: Dick Schwecke 406-791-7700.

EIS No. 20060288, Final EIS, FTA, CA, Warm Springs Extension, Proposing 5.4 mile Extension of the BART System in the City of Fremont, Funding, San Francisco Bay Area Rapid Transit District, Alameda County, CA, Wait Period Ends: 08/14/2006, Contact: Lorraine Lerman 415-744-2735.

EIS No. 20060289, Final EIS, AFS, WA, School Fire Salvage Recovery Project, Salvage Harvest Fire-Killed (dead) and Fire-Damaged (dying) Trees, Implementation, Pomeroy Ranger District, Umatilla National Forest, Columbia and Garfield Counties, WA, Wait Period Ends: 08/14/2006, Contact: Dean Millett 509-843-1891.

EIS No. 20060290, Draft Supplement, NRC, VA, Early Site Permit (ESP) at the North Anna Power Station ESP Site (TAC No. MC1128), New and Updated Information, Construction and Operation, NUREG-1811, Louisa County, VA, Comment Period Ends: 08/28/2006, Contact: Jacking Cushing 301-415-1424.

EIS No. 20060291, Final EIS, NOA, 00, Consolidated Atlantic Highly Migratory Species Fishery Management Plan for Atlantic Tunas, Swordfish, and Shark and the Atlantic Billfish Fishery Management Plan, Implementation, Atlantic Coast, Caribbean and Gulf of Mexico, Wait Period Ends: 08/14/2006, Contact: Karyle Brewster-Geisz 301-713-2347.

Amended Notices

EIS No. 20060260, Final EIS, BLM, AK, East Alaska Draft Resource Management Plan (RMP), Provide a Single Comprehensive Land Use Plan, Implementation, Glennallen Field Office District, AK, Wait Period Ends: 08/02/2006, Contact: Bruce Rogers 907-822-3217.

Revision to Federal Register Notice Published 07/03/2006: Correction to Wait Period from 07/31/2006 to 08/02/2006.

EIS No. 20060261, Final EIS, NPS, UT, Burr Trail Modification Project, Proposed Road Modification within Capitol Reef National Park, Garfield County, UT, Wait Period Ends: 08/02/2006, Contact: Chris Turk 303-969-2832.

Revision to Federal Register Notice Published 07/03/2006: Correction to Wait Period from 07/31/2006 to 08/02/2006.

EIS No. 20060263, Final EIS, BIA, MI, Nottawaseppi Huron Band of Potawatomi Indians (the Tribe), Proposes Fee-to-Trust Transfer and Casino Project, Calhoun County, MI, Wait Period Ends: 08/02/2006, Contact: Terrance Virden 612-725-4510.

Revision to Federal Register Notice Published 07/03/2006: Correction to Wait Period from 07/31/2006 to 08/02/2006.

EIS No. 20060264, Draft EIS, AFS, WY, Lower Valley Energy (LVE) Natural Gas Pipeline Project, Construction and Operation of a Pressurized Natural Gas Pipeline, Special-Use-Authorization, Big Piney and Jackson Ranger Districts, Bridger-Teton National Forest, Sublette and Teton Counties, WY, Comment Period Ends: 08/25/2006, Contact: Teresa Trulock 307-276-3375.

Revision to Federal Register Notice Published 07/03/2006: Extend Comment Period from 08/17/2006 to 08/25/2006.

EIS No. 20060266, Draft EIS, DOT, TX, North Corridor Fixed Guideway Project, Propose Transit Improvements from University of Houston (UH)-Downtown Station to Northline Mall, Harris County, TX, Comment Period Ends: 08/17/2006, Contact: John Sweek 817-978-0550.

Revision to Federal Register Notice Published 07/03/2006: Correction to Comment Period from 08/14/2006 to 08/17/2006.

EIS No. 20060267, Final EIS, BLM, CA, Ukiah Resource Management Plan, Implementation, Several Counties, CA, Wait Period Ends: 08/02/2006, Contact: Eli Ilano 916-978-4427.

Revision to Federal Register Notice Published 07/03/2006: Correction to Wait Period from 08/14/2006 to 08/02/2006.

EIS No. 20060269, Draft Supplement, COE, MD, Masonville Dredged Material Containment Facility, New Information, New Source of Dike Building Material from the Seagirt Dredging Project within the Patapsco River, Funding, Baltimore, MD, Comment Period Ends: 08/17/2006, Contact: Jon Romeo 410-962-6079.

Revision to Federal Register Notice Published 07/03/2006: Correction to Comment Period from 08/14/2006 to 08/17/2006.

EIS No. 20060270, Second Draft Supplement, COE, FL, Cape Sable Seaside Sparrow Protection, Interim Operation Plan (IOP), Additional Information Alternative 7, Providing Additional Flood Control Capacity, Implementation, Everglades National Park, Miami-Dade County, FL, Comment Period Ends: 08/17/2006, Contact: Dr. Jon Moulding 904-232-2286

Revision to Federal Register Notice Published 07/03/2006: Correction to Comment Period from 08/14/2006 to 08/17/2006.

EIS No. 20060271, Draft EIS, CGD, 00, PROGRAMMATIC—Implementation of the U.S. Coast Guard Nationwide Automatic Identification System Project, Providing Vessel Identification, Tracking and Information Exchange Capabilities to Support National Maritime Interests, Comment Period Ends: 08/17/2006, Contact: Anita Allen 202-475-3292

Revision to Federal Register Notice Published 07/03/2006: Correction to Comment Period from 08/14/2006 to 08/17/2006.

EIS No. 20060272, Draft EIS, COE, NC, West Onslow Beach and New River Inlet (Topsail Beach) Shore Protection Project, Storm Damages and Beach Erosion Reduction, Funding, Pender County, NC, Comment Period Ends: 08/17/2006, Contact: Jenny Owens 910-251-4757.

Revision to Federal Register Notice Published 07/03/2006: Correction to Comment Period from 08/14/2006 to 08/17/2006.

EIS No. 20060273, Draft EIS, RUS, MT, Highwood Generating Station, 250-megawatt Coal Fired Power Plant and 6MW of Wind Generation at a Site near Great Falls, Construction and Operation, Licenses Permit, U.S. Army COE Section 10 Permit, Cascade County, MT, Comment Period Ends: 08/17/2006, Contact: Richard Fristik 202-720-5093.

This document is available on the Internet at: http://www.usda.gov/rus/water/ees/eis.htm.

Revision to Federal Register Notice Published 07/03/2006: Correction to Comment Period from 08/15/2006 to 08/17/2006.

EIS No. 20060278, Draft EIS, NOA, 00, North Atlantic Right Whale Ship Strike Reduction Strategy, To Implement the Operational Measures to Reduce the Occurrence and Severity of Vessel Collisions with the Right Whale, Serious Injury and Deaths Resulting from Collisions with Vessels, Comment Period Ends: 09/05/2006, Contact: Stewart Harris 301-713-2322.

Revision of Federal Register Notice Published 07/07/2006. Correction to Contact Person Name and Telephone Number.

Dated: July 11, 2006.
Robert W. Hargrove.
Director, NEPA Compliance Division, Office of Federal Activities.

[FR Doc. E6-11125 Filed 7-13-06; 8:45 am]

BILLING CODE 6560-50-P